DEPARTMENT OF ENERGY

Federal Energy Regulatory Commission

Combined Notice of Filings #1

Take notice that the Commission received the following electric rate filings:

Docket Numbers: ER15-760-012.

Applicants: Western Antelope Blue Sky Ranch A LLC.

Description: Compliance filing: Western Antelope Blue Sky Ranch A, LLC MBR Tariff to be effective 5/18/2019.

Filed Date: 5/17/19.

Accession Number: 20190517-5049.

Comments Due: 5 p.m. ET 6/7/19.

Docket Numbers: ER15-1579-011.

Applicants: 67RK 8me LLC.

Description: Compliance filing: 67RK 8me LLC MBR Tariff to be effective 5/18/2019.

Filed Date: 5/17/19.

Accession Number: 20190517-5068.

Comments Due: 5 p.m. ET 6/7/19.

Docket Numbers: ER15-1582-012.

Applicants: 65HK 8me LLC.

Description: Compliance filing: 65HK 8me LLC MBR Tariff to be effective 5/18/2019.

Filed Date: 5/17/19.

Accession Number: 20190517-5055.

Comments Due: 5 p.m. ET 6/7/19.

Docket Numbers: ER15-1914-013.

Applicants: 87RL 8me LLC.

Description: Compliance filing: 87RL 8me LLC MBR Tariff to be effective 5/18/2019.

Filed Date: 5/17/19.

Accession Number: 20190517-5074.

Comments Due: 5 p.m. ET 6/7/19.

Docket Numbers: ER15-2679-009.

Applicants: Latigo Wind Park, LLC.

Description: Compliance filing: Latigo Wind Park, LLC MBR Tariff to be effective 5/18/2019.

Filed Date: 5/17/19.

Accession Number: 20190517-5120.

Comments Due: 5 p.m. ET 6/7/19.

Docket Numbers: ER16-468-007.

Applicants: FTS Master Tenant 1, LLC.

Description: Compliance filing: FTS Master Tenant 1 MBR Tariff to be effective 5/18/2019.

Filed Date: 5/17/19.

Accession Number: 20190517-5110.

Comments Due: 5 p.m. ET 6/7/19.

Docket Numbers: ER16-474-008.

Applicants: Central Antelope Dry Ranch C LLC.

Description: Compliance filing: Central Antelope Dry Ranch C LLC MBR Tariff to be effective 5/18/2019.

Filed Date: 5/17/19.

Accession Number: 20190517-5106.

Comments Due: 5 p.m. ET 6/7/19.

Docket Numbers: ER16-1255-007.

Applicants: Antelope Big Sky Ranch LLC.

Description: Compliance filing: Antelope Big Sky Ranch MBR Tariff to be effective 5/18/2019.

Filed Date: 5/17/19.

Accession Number: 20190517-5078.

Comments Due: 5 p.m. ET 6/7/19.

Docket Numbers: ER16-1738-007.

Applicants: Beacon Solar 4, LLC.

Description: Compliance filing: Beacon Solar 4, LLC MBR Tariff to be effective 5/18/2019.

Filed Date: 5/17/19.

Accession Number: 20190517-5103.

Comments Due: 5 p.m. ET 6/7/19.

Docket Numbers: ER16-1901-007.

Applicants: Elevation Solar C LLC.

Description: Compliance filing: Elevation Solar C LLC MBR Tariff to be effective 5/18/2019.

Filed Date: 5/17/19.

Accession Number: 20190517-5107.

Comments Due: 5 p.m. ET 6/7/19.

Docket Numbers: ER16-1955-007.

Applicants: Antelope DSR 2, LLC.

Description: Compliance filing: Antelope DSR 2 MBR Tariff to be effective 5/18/2019.

Filed Date: 5/17/19.

Accession Number: 20190517-5080.

Comments Due: 5 p.m. ET 6/7/19.

Docket Numbers: ER16-1973-007.

Applicants: Western Antelope Blue Sky Ranch B LLC.

Description: Compliance filing: Western Antelope Blue Sky Ranch B MBR Tariff to be effective 5/18/2019.

Filed Date: 5/17/19.

Accession Number: 20190517-5069.

Comments Due: 5 p.m. ET 6/7/19.

Docket Numbers: ER16-2201-006.

Applicants: Antelope DSR 1, LLC.

Description: Compliance filing: Antelope DSR 1 MBR Tariff to be effective 5/18/2019.

Filed Date: 5/17/19.

Accession Number: 20190517-5079.

Comments Due: 5 p.m. ET 6/7/19.

Docket Numbers: ER16-2541-006.

Applicants: Pioneer Wind Park I, LLC.

Description: Compliance filing: Pioneer Wind Park I, LLC MBR Tariff to be effective 5/18/2019.

Filed Date: 5/17/19.

Accession Number: 20190517-5123.

Comments Due: 5 p.m. ET 6/7/19.

Docket Numbers: ER16-2578-007.

Applicants: North Lancaster Ranch LLC.

Description: Compliance filing: North Lancaster Ranch MBR Tariff to be effective 5/18/2019.

Filed Date: 5/17/19.

Accession Number: 20190517-5122.

Comments Due: 5 p.m. ET 6/7/19.

Docket Numbers: ER17-306-006.

Applicants: Beacon Solar 3, LLC.

Description: Compliance filing: Beacon Solar 3, LLC MBR Tariff to be effective 5/18/2019.

Filed Date: 5/17/19.

Accession Number: 20190517-5098.

Comments Due: 5 p.m. ET 6/7/19.

Docket Numbers: ER17-544-006.

Applicants: Beacon Solar 1, LLC.

Description: Compliance filing: Beacon Solar 1, LLC MBR Tariff to be effective 5/18/2019.

Filed Date: 5/17/19.

Accession Number: 20190517-5097.

Comments Due: 5 p.m. ET 6/7/19.

Docket Numbers: ER17-1357-005.

Applicants: Duke Energy Carolinas, LLC.

Description: Compliance filing: DEC-DEP Settlement Compliance Filing (ER17-1357) to be effective 6/1/2017.

Filed Date: 5/17/19.

Accession Number: 20190517-5113.

Comments Due: 5 p.m. ET 6/7/19.

Docket Numbers: ER17-1864-005.

Applicants: Bayshore Solar A, LLC.

Description: Compliance filing: Bayshore Solar A LLC MBR Tariff to be effective 5/18/2019.

Filed Date: 5/17/19.

Accession Number: 20190517-5085.

Comments Due: 5 p.m. ET 6/7/19.

Docket Numbers: ER17-1871-005.

Applicants: Bayshore Solar B, LLC.

Description: Compliance filing: Bayshore Solar B MBR Tariff to be effective 5/18/2019.

Filed Date: 5/17/19.

Accession Number: 20190517-5086.

Comments Due: 5 p.m. ET 6/7/19.

Docket Numbers: ER17-1909-005.

Applicants: Bayshore Solar C, LLC.

Description: Compliance filing: Bayshore Solar C MBR Tariff to be effective 5/18/2019.

Filed Date: 5/17/19.

Accession Number: 20190517-5096.

Comments Due: 5 p.m. ET 6/7/19.

Docket Numbers: ER18-829-001.

Applicants: Midcontinent Independent System Operator, Inc.

Description: Midcontinent Independent System Operator, Inc. submits tariff filing per 35.19a(b): Refund Report_Wisconsin Electric Power Company to be effective N/A.

Filed Date: 5/17/19.

Accession Number: 20190517-5130.

Comments Due: 5 p.m. ET 6/7/19.

Docket Numbers: ER18-1667-001.

Applicants: Antelope Expansion 2, LLC.

Description: Compliance filing: Antelope Expansion 2 MBR Tariff to be effective 5/18/2019.

Filed Date: 5/17/19.

Accession Number: 20190517-5084.

Comments Due: 5 p.m. ET 6/7/19.

Docket Numbers: ER18-2487-001.

Applicants: Midcontinent Independent System Operator, Inc.

Description: Midcontinent Independent System Operator, Inc. submits tariff filing per 35.19a(b): Refund Report_Rail Splitter Wind Farm LLC to be effective N/A.

Filed Date: 5/17/19.

Accession Number: 20190517-5105.

Comments Due: 5 p.m. ET 6/7/19.

Docket Numbers: ER18-2492-001.

Applicants: FTS Master Tenant 2, LLC.

Description: Compliance filing: FTS Master Tenant 2 MBR Tariff to be effective 5/18/2019.

Filed Date: 5/17/19.

Accession Number: 20190517-5111.

Comments Due: 5 p.m. ET 6/7/19.

Docket Numbers: ER19-846-001.

Applicants: Antelope DSR 3, LLC.

Description: Compliance filing: Antelope DSR 3, LLC MBR Tariff to be effective 5/18/2019.

Filed Date: 5/17/19.

Accession Number: 20190517-5081.

Comments Due: 5 p.m. ET 6/7/19.

Docket Numbers: ER19-1791-001.

Applicants: Riverhead Solar Farm, LLC.

Description: Compliance filing: Riverhead Solar Farm LLC MBR Tariff to be effective 5/18/2019.

Filed Date: 5/17/19.

Accession Number: 20190517-5124.

Comments Due: 5 p.m. ET 6/7/19.

Docket Numbers: ER19-1885-000.

Applicants: Black Hills Colorado Electric, LLC.

Description: § 205(d) Rate Filing: Tariff Revisions for Joint Dispatch Transmission Service to be effective 7/15/2019.

Filed Date: 5/16/19.

Accession Number: 20190516-5099.

Comments Due: 5 p.m. ET 6/6/19.

Docket Numbers: ER19-1886-000.

Applicants: Stony Creek Wind Farm, LLC.

Description: Baseline eTariff Filing: Reactive Power Compensation Filing to be effective 7/16/2019.

Filed Date: 5/17/19.

Accession Number: 20190517-5002.

Comments Due: 5 p.m. ET 6/7/19.

Docket Numbers: ER19-1887-000.

Applicants: Emera Maine.

Description: Compliance filing: Order No. 845 Compliance to be effective 5/20/2019.

Filed Date: 5/17/19.

Accession Number: 20190517-5024.

Comments Due: 5 p.m. ET 6/7/19.

Docket Numbers: ER19-1888-000.

Applicants: Southwest Power Pool, Inc.

Description: § 205(d) Rate Filing: SPS Formula Rate Revisions to Incorporate Changes Accepted in ER19-404 to be effective 4/16/2016.

Filed Date: 5/17/19.

Accession Number: 20190517-5045.

Comments Due: 5 p.m. ET 6/7/19.

Docket Numbers: ER19-1889-000.

Applicants: Antrim Wind Energy LLC.

Description: Baseline eTariff Filing: Application for Market-Based Rate Authorization, Request for Related Waivers to be effective 7/17/2019.

Filed Date: 5/17/19.

Accession Number: 20190517-5087.

Comments Due: 5 p.m. ET 6/7/19.

Docket Numbers: ER19-1890-000.

Applicants: MATL LLP.

Description: Compliance filing: Order No. 845 Compliance Filing to be effective 5/22/2019.

Filed Date: 5/17/19.

Accession Number: 20190517-5109.

Comments Due: 5 p.m. ET 6/7/19.

Docket Numbers: ER19-1891-000.

Applicants: Southern California Edison Company.

Description: Tariff Cancellation: Cancel IFA Mountainview SA No. 6 to be effective 7/17/2019.

Filed Date: 5/17/19.

Accession Number: 20190517-5126.

Comments Due: 5 p.m. ET 6/7/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 17, 2019.
Nathaniel J. Davis, Sr.,
Deputy Secretary.

[FR Doc. 2019-10882 Filed 5-23-19; 8:45 am]

BILLING CODE 6717-01-P